ENVIRONMENTAL PROTECTION AGENCY

40 CFR Part 35

State and Local Assistance

CFR Correction

In Title 40 of the Code of Federal Regulations, parts 1 to 49, revised as of July 1, 2016, on page 517, in § 35.6280, paragraph (a)(2) is revised to read as follows:

§ 35.6280 Payments.

(a) * * *

(2) Interest. The interest a recipient earns on an advance of EPA funds is subject to the requirements of 2 CFR 200.305.

* * * * *

[FR Doc. 2017-09486 Filed 5-9-17; 8:45 am]

BILLING CODE 1301-00-D